DEPARTMENT OF COMMERCE

Patent and Trademark Office

[Docket No. PTO-P-2011-0049]

Notice of Availability of Patent Fee Changes Under the Leahy-Smith America Invents Act

AGENCY: United States Patent and Trademark Office, Commerce.

ACTION: Notice of availability.

SUMMARY: The United States Patent and Trademark Office (USPTO) is publishing this notice to advise the public of the availability, on the USPTO's Web site, of the patent fee amounts that will be in effect ten days after the date of enactment of the Leahy-Smith America Invents Act (i.e., September 26, 2011) by operation of the fifteen percent surcharge provided for in section 11(i) and the prioritized examination fee provided for in Section 11(h). The USPTO's Web site also specifies the additional fee for applications not filed by electronic means in effect sixty days after the date of enactment of the Leahy-Smith America Invents Act (i.e., November 15, 2011) by operation of section 10(h). The USPTO's Web site for fee information is http://www.uspto.gov/about/offices/cfo/finance/fees.jsp.

FOR FURTHER INFORMATION CONTACT: By telephone to James J. Engel, at (571) 272-7725, or Susy Tsang-Foster, at 571-272-7711; or by mail addressed to: United States Patent and Trademark Office, Mail Stop Comments—Patents, Commissioner for Patents, P.O. Box 1450, Alexandria, VA 22313-1450, marked to the attention of James J. Engel or Susy Tsang-Foster.

Authority: Pub. L. 112-29.

SUPPLEMENTARY INFORMATION: Sections 11(a) through (e) of the Leahy-Smith America Invents Act generally codify the patent fee provisions of the fiscal year 2005 Consolidated Appropriations Act (Pub. L. 108-447), with the patent fee amounts in effect on the date of enactment of the Leahy-Smith America Invents Act. Sections 11(a) through (e) of the Leahy-Smith America Invents Act also delete provisions pertaining to applicant-provided search reports and search reports acquired from a qualified search authority, and reorganize a few of the patent fee provisions of the fiscal year 2005 Consolidated Appropriations Act. The Leahy-Smith America Invents Act includes the following additional changes to patent fees:

First, section 11(i) of the Leahy-Smith America Invents Act provides that there shall be a surcharge of 15 percent, rounded by standard arithmetic rules, on all fees charged or authorized by 35 U.S.C. 41(a), (b) and (d)(1), as well as by 35 U.S.C. 132(b). Section 11(i) also provides that this 15 percent surcharge is effective ten days after the date of enactment of the Leahy-Smith America Invents Act (i.e., September 26, 2011).

Second, section 11(h) of the Leahy-Smith America Invents Act includes provisions for prioritized examination, which include a fee of $4,800 ($2,400 for small entities). Section 11(h) also provides that the prioritized examination provisions are effective ten days after the date of enactment of the Leahy-Smith America Invents Act (i.e., September 26, 2011).

Third, section 10(h) of the Leahy-Smith America Invents Act provides that an additional fee of $400 shall be established for each application for an original (i.e., non-reissue) patent, except for a design, plant, or provisional application, that is not filed by electronic means as prescribed by the Director of the United States Patent and Trademark Office (USPTO). Section 10(h) also provides that this fee is reduced by 50 percent for small entities under 35 U.S.C. 41(h)(1). Additionally, section 10(h) provides that this new fee is effective sixty days after the date of enactment of the Leahy-Smith America Invents Act (i.e., November 15, 2011).

The USPTO is publishing this notice to advise the public of the availability, on the USPTO's Web site, of the patent fee amounts that will be in effect ten days after the date of enactment of the Leahy-Smith America Invents Act by operation of the fifteen percent surcharge provided for in section 11(i) and the prioritized examination fee provided for in Section 11(h). The USPTO's Web site also specifies the additional fee for applications not filed by electronic means in effect sixty days after the date of enactment of the Leahy-Smith America Invents Act by operation of section 10(h). The USPTO's Web site for fee information is http://www.uspto.gov/about/offices/cfo/finance/fees.jsp.

The fees for the new programs provided for in the Leahy-Smith America Invents Act (e.g., post-grant review, inter partes review, supplemental examination) and other fee changes authorized by the Leahy-Smith America Invents Act will be implemented in separate rule makings. The prioritized examination provisions of section 11(h) of the Leahy-Smith America Invents Act will be implemented in a separate final rule making.

Dated: September 21, 2011.
Deborah S. Cohn,
Commissioner for Trademarks.

[FR Doc. 2011-24672 Filed 9-22-11; 8:45 am]

BILLING CODE 3510-16-P